DEPARTMENT OF ENERGY

Federal Energy Regulatory Commission

Combined Notice of Filings No. 1

April 21, 2010.

Take notice that the Commission received the following exempt wholesale generator filings:

Docket Numbers: EG09-48-000.

Applicants: Meadow Lake Wind Farm II LLC.

Description: Notice of self-certification re EWG status change in facts of Meadow Lake Wind Farm II LLC.

Filed Date: 04/21/2010.

Accession Number: 20100421-5097.

Comment Date: 5 p.m. Eastern Time on Wednesday, May 12, 2010.

Take notice that the Commission received the following electric rate filings:

Docket Numbers: ER99-3911-007.

Applicants: Northbrook New York, LLC.

Description: Northbrook New York, LLC submits letter notifying the Commission of a change in status resulting from the consummation.

Filed Date: 04/20/2010.

Accession Number: 20100420-0210.

Comment Date: 5 p.m. Eastern Time on Tuesday, May 11, 2010.

Docket Numbers: ER01-1699-009.

Applicants: Pilot Power Group, Inc.

Description: Pilot Power Group, Inc submits Request for Category I Seller Status pursuant to Order Nos. 697- 697A.

Filed Date: 04/20/2010.

Accession Number: 20100420-0208.

Comment Date: 5 p.m. Eastern Time on Tuesday, May 11, 2010.

Docket Numbers: ER03-908-003.

Applicants: Fulcrum Power Marketing LLC.

Description: Fulcrum Power marketing, LLC submits letter requesting a determination by the Commission that they qualify as a Category 1 Seller et al.

Filed Date: 04/20/2010.

Accession Number: 20100420-0211.

Comment Date: 5 p.m. Eastern Time on Tuesday, May 11, 2010.

Docket Numbers: ER09-677-001.

Applicants: Exelon Generation Company, LLC.

Description: Exelon Generation Company, LLC submits Notice of Succession to Rate Schedule FERC 6 of AmerGen Energy Company, LLC.

Filed Date: 04/13/2010.

Accession Number: 20100414-0216.

Comment Date: 5 p.m. Eastern Time on Tuesday, May 04, 2010.

Docket Numbers: ER10-382-002.

Applicants: Florida Power Corporation.

Description: Florida Power Corp. submits an amendment to its 2/16/10 filing, which amended the 12/2/09 filing of an agreement with Seminole Electric Cooperative, Inc designated as Rate Schedule No. 311.

Filed Date: 04/09/2010.

Accession Number: 20100409-0235.

Comment Date: 5 p.m. Eastern Time on Friday, April 30, 2010.

Docket Numbers: ER10-899-001.

Applicants: Consulting Gasca & Associates, LLC.

Description: Consulting Gasca and Associates, LLC submits the Petition for Acceptance of Initial Tariff, Waivers and blanket Authority.

Filed Date: 04/20/2010.

Accession Number: 20100420-0207.

Comment Date: 5 p.m. Eastern Time on Tuesday, May 11, 2010.

Docket Numbers: ER10-1070-000.

Applicants: Midwest Independent Transmission System Operator, Inc.

Description: Midwest Independent Transmission System Operator, Inc submits executed Amended and Restated Large Generation Interconnection Agreement with MinnDakota Wind LLC et al.

Filed Date: 04/20/2010.

Accession Number: 20100420-0212.

Comment Date: 5 p.m. Eastern Time on Tuesday, May 11, 2010.

Take notice that the Commission received the following open access transmission tariff filings:

Docket Numbers: OA08-62-007.

Applicants: California Independent System Operator Corporation.

Description: Erratum of the California Independent System Operator Corporation.

Filed Date: 04/20/2010.

Accession Number: 20100420-0209.

Comment Date: 5 p.m. Eastern Time on Tuesday, May 11, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-9787 Filed 4-27-10; 8:45 am]

BILLING CODE 6717-01-P